COMMISSION ON CIVIL RIGHTS

Sunshine Act Notice

AGENCY: United States Commission on Civil Rights

ACTION: Notice of meeting and briefing.

DATE AND TIME: Friday, March 7; 9:30 a.m.

PLACE: U.S. Commission on Civil Rights, 624 Ninth Street, NW., Rm. 540, Washington, DC 20425.

Meeting Agenda

I. Approval of Agenda

II. Approval of Minutes

• December 3 Meeting

• January 11 Meeting

• February 8 Meeting

III. Announcements

IV. Staff Director's Report

• Report on Lean Six Sigma Process

V. Management and Operations

• Reporting of Commissioner Appointment Status

• Status of FY 2008 Budget

• Status of FY 2009 Budget

VI. Program Planning

• Briefing Report on Racial Categorization in the Census

• Proposed Changes to 2008 Briefing Schedule

• Proposed Changes to 2009 Briefing Schedule

• 2010 Program Planning Proposals

VII. State Advisory Committee Issues

• Ohio SAC

• New Jersey SAC

• Rhode Island SAC

• Texas SAC

• Vermont SAC

VIII. Future Agenda Items

IX. Adjourn

CONTACT PERSON FOR FURTHER INFORMATION: Lenore Ostrowsky, Acting Chief, Public Affairs Unit (202) 376-8582.

Dated: February 26, 2008.
David Blackwood,
General Counsel.

[FR Doc. 08-913 Filed 2-26-08; 8:45 am]

BILLING CODE 6335-01-P